DEPARTMENT OF HEALTH AND HUMAN SERVICES

[Document Identifier: HHS-ONC-17577-30D]

Agency Information Collection Activities; Submission to OMB for Review and Approval; Public Comment Request

AGENCY: Office of the National Coordinator for Health IT, HHS.

ACTION: Notice.

SUMMARY: In compliance with section 3507(a)(1)(D) of the Paperwork Reduction Act of 1995, the Office of the National Coordinator for Health IT (ONC), Department of Health and Human Services, has submitted an Information Collection Request (ICR), described below, to the Office of Management and Budget (OMB) for review and approval. The ICR is for a new collection. Comments submitted during the first public review of this ICR will be provided to OMB. OMB will accept further comments from the public on this ICR during the review and approval period.

DATES: Comments on the ICR must be received on or before November 19, 2012.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the Information Collection Request Title and document identifier HHS-ONC-17577-30D for reference.

Information Collection Request Title: National Survey on Health Information Exchange in Clinical Laboratories.

Abstract: ONC seeks approval to collect key data from a relatively small sample of clinical laboratories nationwide for the Evaluation of the State Health Information Exchange Cooperative Agreement Program. The National Survey on Health Information Exchange in Clinical Laboratories will assess and evaluate the electronic transfer of health information from clinical laboratories to ordering physicians. It will focus on two key measures: (1) Percentage of laboratory facilities that are able to send structured lab results electronically to ordering physicians and (2) percentage of lab results that are currently being sent electronically in coded format to ordering physicians.

Need and Proposed Use of the Information: A key goal of the State Health Information Exchange Cooperative Agreement Program is to promote the electronic exchange of structured test results from clinical laboratories to healthcare providers. ONC will use these survey findings to develop a comprehensive understanding of the baseline level of laboratory information exchange in order to inform program activities to promote laboratory information exchange and provide more targeted assistance to states and territories in developing their laboratory information exchange strategies.

Likely Respondents: There will be two similar versions of the questionnaire—one for hospital-based labs and one for independent labs.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
Form name | Type of respondent | Number of respondents | Number of responses per respondent | Average burden per response (in hours) | Total burden hours
Hospital-Based Laboratory Survey on Health Information Exchange | Hospital-Based Laboratories | 2,729 | 1 | 20/60 | 910
Independent Laboratory Survey on Health Information Exchange | Independent Laboratories | 1,963 | 1 | 17.70/60 | 579
Total |  | 4,692 | 1 | 19.04/60 | 1,489

Keith A. Tucker,
Information Collection Clearance Officer.

[FR Doc. 2012-25737 Filed 10-18-12; 8:45 am]

BILLING CODE 4150-45-P